LEGAL SERVICES CORPORATION

Sunshine Act Meeting

Time and Date: The Operations & Regulations Committee of the Legal Services Corporation Board of Directors will meet on June 27, 2003. The meeting will begin at 3:30 p.m. and continue until the Committee concludes its agenda.

Location: The Latham Hotel, 3000 M Street, NW., Washington, DC.

Status of Meeting: Open.

Matters to be Considered:

1. Approval of agenda.

2. Staff report on LSC's Rulemaking Process.

3. Consider and act on Grant Assurances for 2004.

4. Consider and act on future activities for the Committee.

5. Consider and act on other business.

6. Public comment.

7. Consider and act on adjournment of meeting.

FOR FURTHER INFORMATION CONTACT: Victor M. Fortuno, Vice President for Legal Affairs, General Counsel & Corporate Secretary, at (202) 295-1500.

Special Needs: Upon request, meeting notices will be made available in alternate formats to accommodate visual and hearing impairments. Individuals who have a disability and need an accommodation to attend the meeting may notify Elizabeth S. Cushing, at (202) 295-1500.

Dated: June 20, 2003.
Victor M. Fortuno,
Vice President for Legal Affairs, General Counsel & Corporate Secretary.

[FR Doc. 03-16066 Filed 6-20-03; 2:16 am]

BILLING CODE 7050-01-P